DEPARTMENT OF HOMELAND SECURITY

Coast Guard

[Docket No. USCG-2008-0462]

Printing of Coast Guard Light Lists

AGENCY: Coast Guard, DHS.

ACTION: Notice.

SUMMARY: The Coast Guard publishes Light List Volumes 1-4 and 6-7 annually; with Volume 5 being published biennially. In order to adjust to a new printing cycle, the Coast Guard will not publish the 2008 editions of the Light Lists as required by 33 CFR 72.05-1 (50 FR 50904), except for Light List Volume 5 (Mississippi River System). The Coast Guard is changing the publication cycle of the Light List so that annual editions are available early in each calendar year. Since the printing of the 2007 editions occurred in November 2007, they will remain effective for approximately 14 months.

FOR FURTHER INFORMATION CONTACT: If you have questions on this notice, e-mail Mr. Frank Parker, U.S. Coast Guard Headquarters, at frank.parker@uscg.mil call or telephone him at 202-372-1551.

SUPPLEMENTARY INFORMATION: Between the printing of editions, each Light List is required to be kept up-to-date every week by applying corrections published in the applicable Coast Guard Local Notices to Mariners or the National Geospatial-Intelligence Agency's (NGA) Weekly Notice to Mariners. The requirement to apply corrections is stated in each volume. By applying the corrections, mariners are able to maintain up-to-date publications regardless of the frequency of newly printed editions. With the cost of each Light List being between $35-$50, mariners will not have to incur the costs of the new editions in 2008. The 2009 editions of Volumes 1-4 and 6-7 will be published in early 2009.

To ensure ample and adequate notification is made to the mariner, the Coast Guard will publish information regarding this temporary change to the printing cycle in the notices to mariners, on the Coast Guard's Navigation Center (NAVCEN) Web site (http://www.navcen.uscg.gov), and other forms of communications. Coast Guard inspectors will also be informed of this temporary change.

Dated: July 23, 2008.
James A. Watson,
Rear Admiral, U.S. Coast Guard, Director of Prevention Policy.

[FR Doc. E8-18084 Filed 8-5-08; 8:45 am]

BILLING CODE 4910-15-P